ENVIRONMENTAL PROTECTION AGENCY

40 CFR Parts 52 and 81

[OH158-1b; FRL-7616-5]

Redesignation and Approval of Ohio Implementation Plan

AGENCY: Environmental Protection Agency (EPA).

ACTION: Proposed rule.

SUMMARY: EPA is proposing to redesignate Lucas County, Ohio, to an attainment area for sulfur dioxide (SO2). EPA further proposes to approve Ohio's plan for continuing to attain the SO2 standards. Finally, EPA proposes to approve State rule limits for two sources that are equivalent to the current limits for these sources.

DATES: Written comments on this proposed rule must arrive on or before March 3, 2004.

ADDRESSES: You should mail written comments to: J. Elmer Bortzer, Acting Chief, Air Programs Branch (AR-18J), U.S. Environmental Protection Agency, Region 5, 77 West Jackson Boulevard, Chicago, Illinois 60604.

Comments may also be submitted electronically, or through hand delivery/courier. Commenters are advised to review the information and follow the instructions for submitting comments as described in part (I)(B) of the SUPPLEMENTARY INFORMATION section of the companion direct final rule published in the rules section of this Federal Register.

You may inspect copies of Ohio's submittal at: Criteria Pollutant Section, Air Programs Branch (AR-18J), U.S. Environmental Protection Agency, Region 5, 77 West Jackson Boulevard, Chicago, Illinois 60604.

FOR FURTHER INFORMATION CONTACT: John Summerhays, Criteria Pollutant Section, Air Programs Branch (AR-18J), U.S. Environmental Protection Agency, Region 5, 77 West Jackson Boulevard, Chicago, Illinois 60604, (312) 886-6067. summerhays.john@epa.gov.

SUPPLEMENTARY INFORMATION: For additional information, see the direct final rule published in the rules section of this Federal Register.

List of Subjects

40 CFR Part 52

Environmental protection, Air pollution control, Incorporation by reference, Intergovermental relations, Reporting and recordkeeping requirements, Sulfur dioxide.

40 CFR Part 81

Air pollution control, National parks, Wilderness areas.

Authority: 42 U.S.C. 7401 et seq.

Dated: January 20, 2004.
Bharat Mathur,
Acting Regional Administrator, Region 5.

[FR Doc. 04-1967 Filed 1-30-04; 8:45 am]

BILLING CODE 6560-50-P